DEPARTMENT OF THE TREASURY

Office of Thrift Supervision

Appalachian Community Bank, FSB, McCaysville, GA, Notice of Appointment of Receiver

Notice is hereby given that, pursuant to the authority contained in section 5(d)(2) of the Home Owners' Loan Act, the Office of Thrift Supervision has duly appointed the Federal Deposit Insurance Corporation as sole Receiver for Appalachian Community Bank, FSB, McCaysville, Georgia, (OTS No. 18033) on December 17, 2010.

Dated: December 21, 2010.
By the Office of Thrift Supervision.
Sandra E. Evans,
Federal Register Liaison.

[FR Doc. 2010-32655 Filed 12-28-10; 8:45 am]

BILLING CODE 6720-01-M